DEPARTMENT OF COMMERCE

International Trade Administration

[A-580-889]

Dioctyl Terephthalate From the Republic of Korea: Antidumping Duty Order

AGENCY: Enforcement and Compliance, International Trade Administration, Department of Commerce.

SUMMARY: Based on affirmative final determinations by the Department of Commerce (Department) and the International Trade Commission (ITC), the Department is issuing an antidumping duty (AD) order on dioctyl terephthalate (DOTP) from the Republic of Korea (Korea).

DATES: August 18, 2017.

FOR FURTHER INFORMATION CONTACT: Laurel LaCivita at (202) 482-4243 or Shanah Lee at (202) 482-6386, AD/CVD Operations, Office III, Enforcement and Compliance, U.S. Department of Commerce, 1401 Constitution Avenue NW., Washington, DC 20230.

SUPPLEMENTARY INFORMATION:

Background

In accordance with sections 735(d) and 777(i)(1) of the Tariff Act of 1930, as amended (Act), on June 26, 2017, the Department published its affirmative final determination in the less than fair value (LTFV) investigation of DOTP from Korea.¹ On August 9, 2017, the ITC notified the Department of its final affirmative determination, pursuant to section 735(d) of the Act, that an industry in the United States is materially injured by reason of LTFV imports of DOTP from Korea, within the meaning of section 735(b)(1)(A)(i) of the Act.²

¹ See Dioctyl Terephthalate From the Republic of Korea: Final Determination of Sales at Less Than Fair Value and Final Negative Determination of Critical Circumstances, 82 FR 28824 (June 26, 2017) (Final Determination).

² See Letter to Gary Taverman, Acting Assistant Secretary, from Rhonda K. Schmidtlein, Chairman of the U.S. International Trade Commission, regarding the antidumping duty investigation concerning imports of dioctyl terephthalate from the Republic of Korea (Investigation Nos 701-TA-1330), dated August 9, 2017 (ITC Letter).

Scope of the Order

The merchandise covered by this order is dioctyl terephthalate (DOTP), regardless of form. DOTP that has been blended with other products is included within this scope when such blends include constituent parts that have not been chemically reacted with each other to produce a different product. For such blends, only the DOTP component of the mixture is covered by the scope of this order.

DOTP that is otherwise subject to this order is not excluded when commingled with DOTP from sources not subject to this order. Commingled refers to the mixing of subject and non-subject DOTP. Only the subject component of such commingled products is covered by the scope of the order.

DOTP has the general chemical formulation C6H4(C8H17COO)2 and a chemical name of “bis (2-ethylhexyl) terephthalate” and has a Chemical Abstract Service (CAS) registry number of 6422-86-2. Regardless of the label, all DOTP is covered by this order.

Subject merchandise is currently classified under subheading 2917.39.2000 of the Harmonized Tariff Schedule of the United States (HTSUS). Subject merchandise may also enter under subheadings 2917.39.7000 or 3812.20.1000 of the HTSUS. While the CAS registry number and HTSUS classification are provided for convenience and customs purposes, the written description of the scope of this order is dispositive.

Antidumping Duty Order

As stated above, on August 9, 2017, in accordance with sections 735(b)(1)(A)(i) and 735(d) of the Act, the ITC has notified the Department of its final determination that the industry in the United States producing is materially injured by reason of the LTFV imports od DOTP from Korea.³ Therefore, in accordance with section 735(c)(2) of the Act, we are issuing this antidumping duty order. Because the ITC determined that imports of DOTP from Korea are materially injuring a U.S. industry, unliquidated entries of such merchandise from Korea, entered or withdrawn from warehouse for consumption, are subject to the assessment of antidumping duties.

³ Id.

As a result of the ITC's final affirmative determination, in accordance with section 736(a)(1) of the Act, the Department will direct U.S. Customs and Border Protection (CBP) to assess, upon further instruction by the Department, antidumping duties equal to the amount by which the normal value of the merchandise exceeds the export price (or constructed export price) of the merchandise, for all relevant entries of DOTP from Korea. Antidumping duties will be assessed on unliquidated entries of DOTP from Korea entered, or withdrawn from warehouse, for consumption on or after February 3, 2017, the date of publication of the Preliminary Determination,⁴ but will not include entries occurring after the expiration of the provisional measures period and before publication of the ITC's final injury determination in the Federal Register, should such entries exist, as further described below.

⁴ See Dioctyl Terephthalate from the Republic of Korea: Affirmative Preliminary Determination of Sales at Less Than Fair Value, Negative Preliminary Determination of Critical Circumstances, and Postponement of Final Determination, 82 FR 9195 (February 3, 2017) (Preliminary Determination).

Continuation of Suspension of Liquidation

In accordance with section 735(c)(1)(B) of the Act, we will instruct CBP to continue to suspend liquidation on all relevant entries of DOTP from Korea. These instructions suspending liquidation will remain in effect until further notice.

The Department will also instruct CBP to require cash deposits equal to the estimated weighted-average dumping margins indicated below. Accordingly, effective on the date of publication of the ITC's final affirmative injury determination in the Federal Register, CBP will require, at the same time as importers would normally deposit estimated duties on this subject merchandise, a cash deposit rate equal to the estimated weighted-average antidumping duty margins listed below.⁵ The “all-others” rate applies to all producers or exporters not specifically listed.

⁵ See Section 736(a)(3) of the Act.

Provisional Measures

Section 733(d) of the Act states that instructions issued pursuant to an affirmative preliminary determination may not remain in effect for more than four months, except where exporters representing a significant proportion of exports of the subject merchandise request the Department to extend that four-month period to no more than six months. At the request of exporters that account for a significant proportion of DOTP from Korea, the Department extended the four-month period to six months.⁶ The Department published the Preliminary Determination in this investigation on February 3, 2017.⁷ Therefore, the extended period, beginning on the date of the publication of the Preliminary Determination, ended on August 1, 2017. Furthermore, section 737(b) of the Act states that definitive duties are to begin on the date of publication of the ITC's final injury determination.

⁶ See Preliminary Determination.

⁷ Id.

Therefore, in accordance with section 733(d) of the Act and our practice,⁸ the Department will instruct CBP to terminate the suspension of liquidation and to liquidate, without regard to antidumping duties, unliquidated entries of DOTP from Korea entered, or withdrawn from warehouse, for consumption after August 1, 2017, the date on which the provisional measures expired, until and through August 14, 2017, the day preceding the date of publication of the ITC's final injury determination in the Federal Register.⁹

⁸ See, e.g., Certain Corrosion-Resistant Steel Products From India, Italy, the People's Republic of China, the Republic of Korea and Taiwan: Amended Final Affirmative Antidumping Determination for India and Taiwan, and Antidumping Duty Orders, 81 FR 48390 (July 25, 2016).

⁹ See Dioctyl Terephthalate (DOTP) From Korea; Determination, 82 FR 38708 (August 15, 2017).

Estimated Weighted-Average Antidumping Duty Margins

The weighted-average antidumping duty margin percentages are as follows:

Exporter/producer | Weighted-average margins (percent)
Aekyung Petrochemical Co., Ltd | 4.08
LG Chem, Ltd | 2.71
All-Others | 3.69

Notification to Interested Parties

This notice constitutes the antidumping duty order with respect to DOTP from Korea pursuant to section 736(a) of the Act. Interested parties can find a list of antidumping duty orders currently in effect at http://enforcement.trade.gov/stats/iastats1.html.

This order is published in accordance with section 736(a) of the Act and 19 CFR 351.211(b).

Dated: August 15, 2017.
Gary Taverman,
Deputy Assistant Secretary for Antidumping and Countervailing Duty Operations, performing the non-exclusive functions and duties of the Assistant Secretary for Enforcement and Compliance.

[FR Doc. 2017-17627 Filed 8-17-17; 8:45 am]

BILLING CODE 3510-DS-P